DEPARTMENT OF THE INTERIOR

National Park Service

[NPS-WASO-NAGPRA-17040; PPWOCRADN0-PCU00RP14.R50000]

Notice of Intent To Repatriate Cultural Items: San Francisco State University NAGPRA Program, San Francisco, CA

AGENCY: National Park Service, Interior.

ACTION: Notice.

SUMMARY: The San Francisco State University NAGPRA Program, in consultation with the appropriate Indian tribes or Native Hawaiian organizations, has determined that the cultural items listed in this notice meet the definition of unassociated funerary objects. Lineal descendants or representatives of any Indian tribe or Native Hawaiian organization not identified in this notice that wish to claim these cultural items should submit a written request to the San Francisco State University NAGPRA Program. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the San Francisco State University NAGPRA Program at the address in this notice by December 17, 2014.

ADDRESSES: Jeffrey Boland Fentress, San Francisco State University NAGPRA Program, c/o Department of Anthropology, San Francisco State University, 1600 Holloway Avenue, San Francisco, CA 94132, telephone (415) 338-3075, email fentress@sfsu.edu.

SUPPLEMENTARY INFORMATION: Notice is here given in accordance with the Native American Graves Protection and Repatriation Act (NAGPRA), 25 U.S.C. 3005, of the intent to repatriate cultural items under the control of the San Francisco State University NAGPRA Program that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

Based on the request for repatriation submitted by the Tuolumne Band of Me-Wuk Indians of the Tuolumne Rancheria of California, each of the objects below meets the definition of unassociated funerary objects under 25 U.S.C. 3001 and 43 CFR 10.2(d)(2)(ii), (d)(3), or (d)(4). Through the summary, consultation, and notification procedures in 43 CFR 10.14, the cultural affiliation of the cultural items below with the Tuolumne Band of Me-Wuk Indians of the Tuolumne Rancheria of California was established.

Between 1970 and 1971, 2 cultural items were removed from site CA-TUO-314, located on the southern bank of Moccasin Creek, near LaGrange, in Tuolumne County, CA, during archeological excavations conducted by San Francisco State University. The 2 unassociated funerary objects are ground stone artifacts associated with human remains from Burial 5; the human remains are not present at San Francisco State University. The geographic location of the sites and archeological, historical, and oral history evidence indicate that these unassociated funerary objects are Native American. The objects are consistent with the material culture of the ancestral Sierra Miwok who occupied this area during the Euro-American contact period, and Ca-TUO-314 is located in an area that is documented as Central Sierra Miwok territory. Oral history evidence presented during consultation indicates that the area has been continuously occupied by the Miwok since the contact period and that there is cultural affiliation between the Tuolumne Band of Me-Wuk Indians of the Tuolumne Rancheria of California.

Determinations Made by the San Francisco State University NAGPRA Program

Officials of the San Francisco State University NAGPRA Program have determined that:

• Pursuant to 25 U.S.C. 3001(3)(B), the 2 unassociated funerary objects described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Tuolumne Band of Me-Wuk Indians of the Tuolumne Rancheria of California.

Additional Requestors and Disposition

Lineal descendants or representatives of any Indian tribe or Native Hawaiian organization not identified in this notice that wish to claim these cultural items should submit a written request with information in support of the claim to Jeffrey Boland Fentress, San Francisco State University NAGPRA Program, c/o Department of Anthropology, San Francisco State University, 1600 Holloway Avenue, San Francisco, CA 94132, telephone (415) 338-3075, email fentress@sfsu.edu, by December 17, 2014. After that date, if no additional claimants have come forward, transfer of control of the unassociated funerary objects to Tuolumne Band of Me-Wuk Indians of the Tuolumne Rancheria of California may proceed.

The San Francisco State University NAGPRA Program is responsible for notifying the Tuolumne Band of Me-Wuk Indians of the Tuolumne Rancheria of California that this notice has been published.

Dated: October 25, 2014.
Melanie O'Brien,
Acting Manager, National NAGPRA Program.

[FR Doc. 2014-27147 Filed 11-14-14; 8:45 am]

BILLING CODE 4312-50-P